DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 79 FR 15593-19954, dated March 20, 2014) is amended to reflect the reorganization of the Food Safety Office, National Center for Emerging and Zoonotic Infectious Diseases.

Delete in its entirety the title and function statements for the Food Safety Office (CVL12), Office of the Director (CVL1).

After the mission statement for the Division of Foodborne, Waterborne and Environmental Diseases (CVLB), insert the following:

Food Safety Office (CVLB13). (1) Provides leadership in preventing and controlling foodborne illness by coordinating related activities within CDC and with other local, state, federal, and international organizations; (2) directs the activities related to development of long-term NCEZID, OID, and CDC strategies, policies, and budgets for foodborne disease prevention activities; (3) allocates and tracks interagency resources within CDC for foodborne disease surveillance, outbreak response, applied research, education and training; (4) administers and tracks resources for foodborne disease prevention and control activities of state and local health departments and other organizations; (5) represents NCEZID and CDC programs and prevention policies in meetings with governmental, non-governmental, private, and international organizations; (6) reviews, prepares, and coordinates congressional testimony and briefing documents related to foodborne diseases, and analyzes programmatic and policy implications of legislative proposals; and (7) provides direction and administrative support to the World Health Organization (WHO) Collaborating Center for Foodborne Disease Surveillance.

Dated: April 7, 2014.
Sherri A. Berger,
MSPH Chief Operating Officer, Centers for Disease Control and Prevention.

[FR Doc. 2014-08593 Filed 4-16-14; 8:45 am]

BILLING CODE 4160-18-M